DEPARTMENT OF HOUSING AND URBAN DEVELOPMENT

[Docket No. FR-5509-FA-01]

Announcement of Funding Awards for the Capacity Building for Sustainable Communities Program for Fiscal Year 2011

AGENCY: Office of Sustainable Housing and Communities, HUD.

ACTION: Announcement of funding awards.

SUMMARY: In accordance with Section 102(a)(4)(C) of the Department of Housing and Urban Development Reform Act of 1989, this announcement notifies the public of funding decisions made by the Department in a competition for funding under the Fiscal Year 2011 (FY 2011) Notice of Funding Availability (NOFA) for the Community Challenge Planning Grant Program (Challenge Grants). This announcement contains the consolidated names and addresses of this year's award recipients.

FOR FURTHER INFORMATION CONTACT: Dwayne S. Marsh, Office of Sustainable Housing and Communities, U.S. Department of Housing and Urban Development, 451 Seventh Street SW., Washington, DC 20410-4500, telephone (202) 402-6316. Hearing or speech-impaired individuals may access this number via TTY by calling the toll-free Federal Information Service at (800) 877-8339.

SUPPLEMENTARY INFORMATION: The Capacity Building for Sustainable Communities Program identifies intermediary organizations that can provide capacity building support for communities engaged in planning efforts that support community involvement and integrate housing, land use, land cleanup and preparation for reuse, economic and workforce development, transportation, and infrastructure investments.

The first purpose of the Program is to assemble a collection of capacity building service providers to work directly with the FY2010 and FY2011 HUD Sustainable Communities Regional Planning and Community Challenge grant recipients, HUD Preferred Sustainability Status Communities, and EPA Sustainable Community Technical Assistance recipients and Brownfield Area Wide Planning grant recipients (collectively—Sustainable Communities Grantees‖), and enable them to fulfill their anticipated outcomes. HUD and other Partnership agencies will work regularly with all selected intermediary service providers to maintain a coordinated and leveraged delivery approach that ensures the maximum benefit to local governments, regions, and planning entities and partners engaged in the prescribed activities.

The second purpose of the Program is to build a national coalition and leadership network of the Sustainable Communities Grantees. The purpose of the network is to facilitate the exchange of successful strategies, lessons learned, emerging tools and public engagement strategies, and approaches for avoiding or minimizing pitfalls. HUD will work with the selected intermediaries to develop a robust evaluation component for the network.

The FY 2011 awards announced in this Notice were selected for funding in a competition posted on Grants.gov and HUD's Web site on June 7, 2011. Applications were scored and selected for funding based on the selection criteria in that NOFA. This notice announces the allocation total of $5.65 million for Capacity Building for Sustainable Communities grants, of which $650,000 was provided by the U.S. Environmental Protection Agency.

In accordance with Section 102 (a)(4)(C) of the Department of Housing and Urban Development Reform Act of 1989 (103 Stat.1987, 42 U.S.C. 3545), the Department is publishing the names, addresses, and amounts of the 10 awards made under the competition in Appendix A to this document.

Dated: December 22, 2011.
Shelley Poticha,
Director, Office of Sustainable Housing and Communities.

Appendix A—Capacity Building for Sustainable Communities Grant Program Grant Awards from FY 2011 Notice of Funding Availability

Reconnecting America, 1707 L Street NW., Washington, DC | $900,000
NADO Research Foundation, 400 N. Capitol Street NW., Washington, DC | 900,000
Coalition for Utah's Future/Project 2000, dba Envision Utah, 254 South 600 East, Salt Lake City, UT | 600,000
Institute for Sustainable Communities, 535 Stone Cutters Way, Montpelier, VT | 1,000,000
Minnesota Housing Partnership, 2446 University Avenue West, Saint Paul, MN | 550,000
PolicyLink, 1438 Webster Street, Oakland, CA | 900.000
PlaceMatters, Inc., 1536 Wynkoop Street, Denver, CO | 400,000
University of Louisville Research Foundation, Inc., Stevenson Hall Room, 521 Sponsored Programs Grants Administration, Louisville, KY | 400,000
Total | 5,650,000

[FR Doc. 2012-3943 Filed 2-21-12; 8:45 am]

BILLING CODE 4210-67-P